FEDERAL COMMUNICATIONS COMMISSION

[DA 25-1008; FR ID 322147]

Notice Debarment; Federal Lifeline Program

AGENCY: Federal Communications Commission.

ACTION: Notice.

SUMMARY: The Enforcement Bureau (the “Bureau”) permanently debars Issa Asad from the federal Lifeline program (Lifeline Program) and all federal universal service support mechanisms.

DATES: Debarment commences on the date Mr. Issa Asad receives the debarment letter or December 17, 2025, whichever date comes first.

ADDRESSES: Federal Communications Commission, Enforcement Bureau, Investigations and Hearings Division, 45 L Street NE, Washington, DC 20554.

FOR FURTHER INFORMATION CONTACT: Christopher Sova, Federal Communications Commission, Enforcement Bureau, Investigations and Hearings Division, 45 L Street NE, Washington, DC 20554. Christopher Sova may be contacted by phone at (202) 418-1868 or by email at Christopher.Sova@fcc.gov.

SUPPLEMENTARY INFORMATION: The Bureau debars Mr. Asad from the federal Lifeline Program and all federal universal service support mechanisms pursuant to 47 CFR 54.8. Attached is the debarment letter, DA 25-1008, which was mailed to Mr. Asad and released on December 17, 2025. The complete text of the notice of debarment is available on the FCC's website at https://docs.fcc.gov/public/attachments/DA-25-1008A1.pdf.

Federal Communications Commission.
Christopher Sova,
Chief, Investigations and Hearings Division, Enforcement Bureau.

BILLING CODE 6712-01-P

[FR Doc. 2025-23018 Filed 12-16-25; 8:45 am]

BILLING CODE 6712-01-C